DEPARTMENT OF HOMELAND SECURITY

Suspension of All Direct Commercial Passenger and Cargo Flights Between the United States and Venezuela

AGENCY: Office of the Secretary, Department of Homeland Security.

ACTION: Notice.

SUMMARY: This notice informs the public that the Department of Homeland Security (DHS) has determined that conditions in Venezuela threaten the safety and security of passengers, aircraft, and crew, and that the public interest requires an immediate suspension of all commercial passenger and cargo flights between the United States and Venezuela. The U.S. Department of Transportation (DOT) concurred with this determination and has issued an Order suspending all foreign air transportation for passengers or cargo to or from any airport in Venezuela, effective May 15, 2019.

DATES: Applicable May 15, 2019.

FOR FURTHER INFORMATION CONTACT: James Gregory, Acting Assistant Administrator, Strategic Communications and Public Affairs, TSA-4, Transportation Security Administration (TSA), 601 South 12th Street, Arlington, VA 20598-6004; telephone: (571) 227-3051; email: James.O.Gregory@tsa.dhs.gov.

SUPPLEMENTARY INFORMATION:

Background

Pursuant to section 44907(e) of title 49, United States Code, if “(1) a condition exists that threatens the safety or security of passengers, aircraft, or crew traveling to or from [a foreign] airport; and (2) the public interest requires an immediate suspension of transportation between the United States and that airport,” the Secretary of Homeland Security, in coordination with the Secretary of Transportation and with the approval of the Secretary of State, shall suspend flights to and from that foreign airport.

The Secretary of Homeland Security has determined that conditions in Venezuela threaten the safety and security of passengers, aircraft, and crew, and that the public interest requires an immediate suspension of air transportation. This determination is based on several prevailing factors, which include: (1) Reports of civil unrest and violence in and around the airports; (2) the inability of TSA to gain access to Venezuelan airports to conduct required security assessments to determine whether adequate security measures are in place; (3) the current economic and political crisis in Venezuela; (4) cancellation of flights to Venezuela by American Airlines, the largest air carrier providing service, and two other carriers; (5) the U.S. Department of State's publication of Do Not Travel advisories, suspension of Embassy operations, and recommendation that TSA inspectors not enter the country owing to safety concerns; (6) the Federal Aviation Administration's issuance of a Notice to Airmen (NOTAM) on May 1, 2019, which prohibits all flight operations by U.S. air carriers and commercial operators in Venezuela airspace below FL 260; and (7) the risk of Maduro regime actions against U.S. citizens and U.S. interests located in Venezuela. Following Secretary of State approval, DOT concurred with this determination and suspended foreign air transportation of passengers or cargo to or from any airport in Venezuela, effective May 15, 2019.

Notice of the Secretary of Homeland Security's finding regarding conditions in Venezuela shall be displayed prominently in all U.S. airports with regularly scheduled air carrier operations. DHS will notify the news media of this determination. The Secretary of Homeland Security has instructed TSA to require that each foreign and domestic air carrier providing air transportation originating in the United States to any person with a flight itinerary that originates in, transfers or transits through, or has a final destination of any airport in Venezuela, provide written notice to such person advising that conditions in Venezuela currently present a threat to the traveling public.

If and when the conditions in Venezuela change and if in the public interest, the Secretary of Homeland Security, in coordination with the Secretary of Transportation, will revisit this determination.

Dated: May 24, 2019.
Kevin K. McAleenan,
Acting Secretary of Homeland Security.

[FR Doc. 2019-11680 Filed 6-3-19; 8:45 am]

BILLING CODE 9111-14-P